DEPARTMENT OF COMMERCE

International Trade Administration

[C-427-815]

Stainless Steel Sheet and Strip in Coils From France: Notice of Extension of Time Limit for Countervailing Duty Administrative Review

AGENCY: Import Administration, International Trade Administration, Department of Commerce.

SUMMARY: The Department of Commerce is extending the time limit for the final results of review of the countervailing duty order on stainless steel sheet and strip in coils from France. The period of review is January 1, 2000, through December 31, 2000.

EFFECTIVE DATE: September 12, 2002.

FOR FURTHER INFORMATION CONTACT: Suresh Maniam; Office of AD/CVD Enforcement I, Import Administration, U.S. Department of Commerce, 14th Street and Constitution Avenue, NW., Washington, D.C. 20230; telephone (202) 482-0176.

SUPPLEMENTARY INFORMATION:

Applicable Statute

Unless otherwise indicated, all citations to the statute are references to the provisions effective January 1, 1995, the effective date of the amendments made to the Tariff Act of 1930 (the Act) by the Uruguay Round Agreements Act. Unless otherwise indicated, all citations to the Department of Commerce's (the Department) regulations are to 19 CFR Part 351 (2000).

Background

The preliminary results of this review were published in the Federal Register on May 10, 2002 (67 FR 31774). The final results are currently due no later than September 9, 2002.

Postponement

The Department determines that it needs additional time to consider the issues raised by the parties and thus, it is not practicable to complete this review within the time limit mandated by section 751(a)(3)(A) of the Act. Accordingly, the Department is extending the time limit for completion of these final results for 14 days (i.e., until September 23, 2002).

This extension is in accordance with section 751(a)(3)(A) of the Act and 19 CFR 351.213(h)(2).

Dated: September 6, 2002.
Susan Kuhbach,
Acting Deputy Assistant Secretary for Import Administration.

[FR Doc. 02-23251 Filed 9-11-02; 8:45 am]

BILLING CODE 3510-DS-S